NATIONAL AERONAUTICS AND SPACE ADMINISTRATION

[Notice 05-140]

Government-Owned Inventions, Available for Licensing

AGENCY: National Aeronautics and Space Administration.

ACTION: Notice of availability of inventions for licensing.

SUMMARY: The invention listed below is assigned to the National Aeronautics and Space Administration, is the subject of a patent application that has been filed in the United States Patent and Trademark office, and is available for licensing.

DATES: September 16, 2005.

FOR FURTHER INFORMATION CONTACT: Mark Homer, Patent Counsel, NASA Management Office—JPL, 4800 Oak Grove Drive, Mail Stop 180-200, Pasadena, CA 91109; telephone (818) 354-7770.

NASA Case No. NPO-40267-1: Reconfigurable Tomographic Imaging Spectrometer;

NASA Case No. NPO-40070-1: High Rated Alumina Nanotemplate Fabrication.

Dated: September 12, 2005.
Keith T. Sefton,
Deputy General Counsel, Administration and Management.

[FR Doc. 05-18450 Filed 9-15-05; 8:45 am]

BILLING CODE 7510-13-P